DEPARTMENT OF ENERGY

Office of Energy Efficiency and Renewable Energy

Request for Information on the Availability of New Geothermal Electricity in the Salton Sea Area To Serve Regional Federal Load

AGENCY: Federal Energy Management Program (FEMP), Office of Energy Efficiency and Renewable Energy, Department of Energy (DOE).

ACTION: Notice of availability and request for information.

SUMMARY: The Federal Energy Management Program Office (FEMP), within the U.S. Department of Energy (DOE), released on its Web site a Request for Information (RFI) on the availability of new construction geothermal electricity in the Salton Sea area to serve regional federal load. The purpose of the RFI is to gather industry input on options available to the Federal Government for a potential aggregated power purchase of 100-250 MW of new construction geothermal electricity generated in the Salton Sea area, within the Riverside and Imperial Counties of California, for delivery over a ten-year or twenty-year contract period to serve regional Federal load. The RFI can be found at www.energy.gov/node/2000486.

DATES: Written comments and information are requested on or before September 29, 2016.

ADDRESSES: Interested parties are to submit comments electronically to: tracy.niro@ee.doe.gov. Include “August 2016 Geothermal RFI” in the subject of the message.

Instructions: All submissions received must include “August 2016 Geothermal RFI” in the subject of the message. The notice is available at www.energy.gov/node/2000486.

FOR FURTHER INFORMATION CONTACT: Tracy Niro, U.S. Department of Energy, Federal Energy Management Program (EE-2L), 1000 Independence Avenue SW., Washington, DC 20585; email: Tracy.Niro@ee.doe.gov.

SUPPLEMENTARY INFORMATION: FEMP released an RFI to gather information on the potential for an aggregated power purchase of 100-250 MW of new construction geothermal electricity generated in the Salton Sea area, which is located within the Riverside and Imperial Counties of California, for delivery over a ten-year or twenty-year contract period to serve regional Federal load located in one or more of the Arizona counties of: Pima, Pinal, Maricopa, Yuma, La Paz and/or the California counties of: Imperial, San Diego, Riverside, San Bernardino, Orange and Los Angeles. The RFI requests responders to provide information on potential new construction geothermal projects in the Salton Sea area and to describe details about those options such as whether the power would include any associated renewable energy certificates, the optimal term for any agreement, and whether transmission, congestion, or infrastructure issues might impact projects, among other things. The RFI is available on the FEMP Web site at: www.energy.gov/node/2000486.

FEMP invites all interested parties to submit in writing by September 29, 2016, comments and information on matters addressed in the notice.

Issued in Washington, DC, on August 25, 2016.
Timothy D. Unruh,
Program Director, Federal Energy Management Program, Energy Efficiency and Renewable Energy.

[FR Doc. 2016-20944 Filed 8-30-16; 8:45 am]

BILLING CODE 6450-01-P